DEPARTMENT OF DEFENSE

Department of the Army

Availability for Exclusive, Non-Exclusive, or Partially-Exclusive Licensing of Inventions Concerning an Inactivated Dengue Virus Vaccine and a Method and Kit for Detection of Dengue Virus

AGENCY: Department of the Army, DoD.

ACTION: Notice.

SUMMARY: Announcement is made of the availability for licensing of the invention set forth in U.S. Patent 6,254,873 which issued July 3, 2001, entitled “Inactivated Dengue Virus Vaccine,” and U.S. Patent 6,190,859, entitled “Method and Kit for Detection of Dengue Virus,” issued February 20, 2001. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to an inactivated dengue virus vaccine to immunize and protect humans against dengue fever. The vaccine is based on dengue viruses which have been propagated to high titers in suitable cells, purified and inactivated under conditions which destroy infectivity but preserve immunogenicity, a high level of which is demonstrated in animal models. Uses of the inactivated dengue virus for detecting antibodies to dengue and kits therefore are also described.

Brenda S. Bowen,
Army Federal Register Liaison Officer.

[FR Doc. 2010-32235 Filed 12-22-10; 8:45 am]

BILLING CODE 3710-08-P